DEPARTMENT OF TRANSPORTATION

Maritime Administration

Docket Number MARAD-2014-0051]

Ex-USNS COMET Available for Donation

AGENCY: Maritime Administration, Department of Transportation.

ACTION: Notice: Vessel Available for Donation.

SUMMARY: The Maritime Administration (MARAD) plans to dispose of an obsolete vessel, the ex-USNS COMET (T-AK-269), which is currently located at its Suisun Bay Reserve Fleet in Benicia, California. MARAD, in consultation with the California State Historic Preservation Office, determined that the vessel is eligible for listing on the National Register of Historic Places under Criterion c. The ex-USNS COMET is considered to be the first purpose-built oceangoing “roll-on/roll-off” vessel. Roll-on/roll-off, or Ro/Ro, describes how wheeled-vehicular cargo is loaded and unloaded.

MARAD is authorized to provide qualified public and non-profit organizations the opportunity to obtain, via donation, obsolete ships from the National Defense Reserve Fleet (NDRF) for use as memorials and/or in other non-commercial enterprises. Accordingly, MARAD is issuing this notice to provide the public and non-profit organizations such an opportunity. For donation application information, please see FOR FURTHER INFORMATION CONTACT below.

DATES: Completed donation applications must be received on or before July 7, 2014. MARAD will not consider completed donation applications filed after this date.

ADDRESSES: You may submit completed donation applications identified as the ex-USNS COMET by any of the following methods:

• Email: Shawn.Ireland@dot.gov or (202) 366-5787. Include the ex-USNS COMET in the subject line of the message.

• Overnight Mail: U.S. Department of Transportation, Maritime Administration, Office of Ship Disposal Program (MAR-640), 1200 New Jersey Avenue SE., Washington, DC 20590, Attention: Shawn Ireland.

FOR FURTHER INFORMATION CONTACT: Please visit the MARAD Ship Donation Program at http://www.marad.dot.gov/ships_shipping_landing_page/ship_disposal_program/ship_donation_program/Ship_Donation_Program.htm or contact Shawn Ireland, Office of Ship Disposal, Maritime Administration, at (202) 366-5787.

SUPPLEMENTARY INFORMATION:

Background

The ex-USNS COMET is considered to be the first purpose-built oceangoing “roll-on/roll-off” vessel. Roll-on/roll-off, or Ro/Ro, describes how wheeled-vehicular cargo is loaded and unloaded. This method was first developed during WWII for amphibious assault operations using short range landing craft. In the postwar period, the concept was refined and expanded beyond the assault class to include the rapid delivery by ship of vehicles carrying military supplies and equipment that could be immediately driven into forward staging areas. This eventually led to the development of the commercial Ro/Ro trade, particularly for cars and light trucks. The ex-USNS COMET has been nicknamed the “Mother of All Ro/Ros” in honor of its pioneering design.

The ex-USNS COMET operated as part of the common user fleet of the Military Sea Transportation Service (MSTS), later the Military Sealift Command (MSC). The vessel was designed by the naval architectural firm founded in 1920 by George G. Sharp. Sharp was a chief surveyor of the American Bureau of Shipping, and later designed many notable vessels, including the first nuclear-powered cargo-passenger vessel and National Historic Landmark N/S SAVANNAH. COMET influenced the design of future generations of roll- on/roll-off vessels, particularly USNS METEOR, which is a larger version of the ex-USNS COMET. It is the lone ship of its class.

(Authority: The National Defense Authorization Act for Fiscal Year 2004, § 3512 of Pub. L. 108-136.)

By Order of the Maritime Administrator.
Julie P. Agarwal,
Secretary, Maritime Administration.

[FR Doc. 2014-07671 Filed 4-4-14; 8:45 am]

BILLING CODE 4910-81-P